DEPARTMENT OF HEALTH AND HUMAN SERVICES

Administration for Community Living

Notice of Intent To Award a Single-Source Supplement to the National Aging and Disability Networks

ACTION: Announcing intent to award a single-source supplement.

SUMMARY: The Administration for Community Living (ACL) announces the intent to award a single-source supplement to the current cooperative agreement held by The National Council on Aging for the project Piloting the Remote Delivery of Falls Prevention Programs. The purpose of this supplement is to scale-up research activities for falls prevention interventions delivered remotely/virtually.

FOR FURTHER INFORMATION CONTACT: For further information or comments regarding this program supplement, contact Keri Lipperini, U.S. Department of Health and Human Services, Administration for Community Living, Administration on Aging, Office of Nutrition and Health Promotion Programs, 202-795-7422, email keri.lipperini@acl.hhs.gov.

SUPPLEMENTARY INFORMATION: This supplement for FY 2020 will be in the amount of $100,000, bringing the total award in FY 2020 to $850,000.

The additional funding will be used to enhance existing efforts, not for new efforts. The grantee will continue to work toward their dual goals of providing public education on the risk of falls and how to prevent them and supporting the implementation and dissemination of evidence-based falls prevention programs.

Program Name: National Falls Prevention Resource Center.

Recipient: The National Council on Aging.

Period of Performance: The supplement award will be issued for the fifth year of a five year project period of August 1, 2016 to July 31, 2021.

Total Award Amount: $850,000 in FY 2020.

Award Type: Cooperative Agreement, Supplement.

Statutory Authority: The Older Americans Act (OAA) of 1965, as amended, Public Law 116-131.

Basis for Award

The National Council on Aging (NCOA) is currently funded to carry out the objectives of the National Falls Prevention Resource Center grant for the period of August 1, 2016 to July 31, 2021. Since the project's implementation, the grantee has made satisfactory progress toward its approved work plan.

This supplemental funding is intended to enhance NCOA's existing work—enabling them to provide responsive support for community-based organizations during the COVID-19 pandemic by piloting the remote/virtual delivery of falls prevention interventions.

As a well-established and trusted organization in the aging and disability networks, NCOA is uniquely positioned to complete the work called for under this project. Their current grant has two primary goals: (1) To provide public education on the risk of falls and how to prevent them; and (2) support the implementation and dissemination of evidence-based falls prevention programs. To accomplish these goals, NCOA serves as the national leader in falls prevention, reaching millions of professionals, older adults, individuals with disabilities, and their families each year through Falls Prevention Awareness Day and other public awareness activities and events. They also provide technical assistance for organizations implementing falls prevention programs, including one-on-one consultation, national conferences, and webinars. They have a comprehensive, interactive website with tools and resources, including—but not limited to—issues briefs, tip sheets, policy and practice models, and toolkits. They have also presented to the aging and disability networks locally and on a national level, and have developed substantive partnerships with program developers, organizations, universities.

Establishing an entirely new grant project at this time would be potentially disruptive to the work needed to ensure the continued availability of falls prevention programs. If this supplement were not provided, ACL grantees and the hundreds community-based organizations across the nation who provide many of these falls prevention interventions would be unable to do so due to the COVID-19 pandemic.

Dated: July 8, 2020.
Mary Lazare,
Principal Deputy Administrator.

[FR Doc. 2020-15280 Filed 7-20-20; 8:45 am]

BILLING CODE 4154-01-P